DEPARTMENT OF THE INTERIOR

Office of the Special Trustee for American Indians Request for Comments on New Information Collection for 25 CFR 115

AGENCY: Office of the Special Trustee for American Indians, Interior.

ACTION: Notice of Proposed Information Collection.

SUMMARY: The Office of the Special Trustee for American Indians is seeking comments on a collection of information concerning Individual Indian Money (IIM) Accounts as covered in 25 CFR 115. This is a new collection for the Office of the Special Trustee for American Indians. Previously, this information collection had been submitted and cleared as a Bureau of Indian Affairs responsibility. When this collection is approved by the Office of Management and Budget, the Bureau of Indian Affairs collection will be allowed to expire.

DATES: Submit comments on or before August 18, 2003.

ADDRESSES: Send comments to Sarah Yepa at Office of Trust Funds Management, Office of the Special Trustee for American Indians, 505 Marquette, NW, Suite 1000, Albuquerque, NM 87102.

FOR FURTHER INFORMATION CONTACT: You may request further information or obtain copies of the proposed information collection request from Sarah Yepa @ (505) 816-1003 or by telefacsimile @ (505) 816-1377.

SUPPLEMENTARY INFORMATION: The information provided through information collection requirements is used to facilitate better processing of deposits, investments, and distribution of monies held in trust by the Special Trustee for individual Indians and tribal governments. The information is used in the administration of these accounts on deposit; the procedures necessary to deposit and retrieve funds from these accounts; the procedures for handling certain transactions, such as cashing checks, reporting lost checks, reporting stolen checks, stopping payment on checks; and general verification of account information.

This program is assigned to the Office of Special Trustee and will be removed from the Bureau of Indian Affairs collection when this request is approved by the Office of Management and Budget and given a new number. The collection has been reviewed and 998,036 burden hours have been removed from the public burden; 114,700 burden hours are part of the federal burden; the remainder are the result of re-evaluating the number of responses for each collection. Our review resulted in a reduction of responses from 1,997,500 to 820,175; this is a reduction of 1,177,325 responses. We reviewed the number of respondents. We added the 500 tribes to the 285,000 IIM accounts, for a total of 285,500 respondents.

Request for Comments

The Office of the Special Trustee for American Indians requests your comments on this collection concerning:

(a) The necessity of this information collection for the proper performance of the functions of the agency, including whether the information will have practical utility;

(b) the accuracy of the agency's estimate of the burden (hours and cost) of the collection of information, including the validity of the methodology and assumptions used;

(c) ways we could enhance the quality, utility and clarity of the information to be collected; and

(d) ways we could minimize the burden of the collection of the information on the respondents, such as through the use of automated collection techniques or other forms of information technology.

Please note that an agency may not sponsor or request, and an individual need not respond to, a collection of information unless it has a valid OMB Control Number.

It is our policy to make all comments available to the public for review at the location listed in the ADDRESSES section during regular business hours, Monday through Friday except for legal holidays. If you wish to have your name and/or address withheld, you must state this prominently at the beginning of your comments. We will honor your request according to the requirements of the law. All comments from organizations or representatives will be available for review. We may withhold comments from review for other reasons.

OMB Control Number: 1035-0XXX.

Type of review: New collection.

Title: Trust Funds for Tribes and Individual Indians, 25 CFR 115.

Brief Description of collection: This information collection is used to process deposits, investments, and distribution of monies held in trust by the Special Trustee for individual Indians and tribal governments and in the administration of these accounts. The respondents submit information in order to gain or retain a benefit, namely, access to funds held in trust. This collection covers 12 different kinds of submissions with the burden ranging from ½ hour to 16½ hours.

Respondents: Individual tribal members or tribes who wish to some activity on their account.

Number of Respondents: 285,500.

Estimated Time per Response: Varies from ½ hour to 16½ hours.

Estimated Number of Responses annually: 820,175.

Frequency of Response: As needed.

Total Annual Burden to Respondents: 579,089 hours.

Dated: June 16, 2003.
Richard V. Fitzgerald,
Director, Trust Regulatory Policies and Procedures.

[FR Doc. 03-15498 Filed 6-18-03; 8:45 am]

BILLING CODE 4310-2W-P